DEPARTMENT OF THE TREASURY

Submission for OMB Review; Comment Request

June 26, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 8, 2001 to be assured of consideration.

Internal Revenue Service (IRS)

OMB Number: 1545-0199.

Form Number: IRS Form 5306-A (formerly Form 5306-SEP).

Type of Review: Revision.

Title: Applications for Approval of Prototype Simplified Employee Pension or Savings Incentive Match Plan for Employees of Small Employers.

Description: This form is used by banks, credit unions, insurance companies, and trade or professional associations to apply for approval of a Simplified Employee Pension Plan or Savings Incentive Match Plan to be used by more than one employer. The data collected is used to determine if the prototype plan submitted is an approved plan.

Respondents: Business or other for-profit.

Estimated Number of Respondents/Recordkeepers: 5,000.

Estimated Burden Hours Per Respondent/Recordkeeper:

Recordkeeping: 15 hr., 46 min.

Learning about the law or the form: 1 hr., 17 min.

Preparing, copying, assembling, and sending the form to the IRS: 1 hr., 36 min.

Frequency of Response: On occasion.

Estimated Total Reporting./Recordkeeping Burden: 93,400 hours.

OMB Number: 1545-0806.

Regulation Project Number: EE-12-78 Final.

Type of Review: Extension.

Title: Nonbank Trustees.

Description: Internal Revenue Code (IRC) section 408(a)(2) permits an institution other than a bank to be the trustee of an individual retirement account (IRA). To do so, an application needs to be filed and various qualifications need to be met. IRS uses the information to determine whether an institution qualifies to be a non-bank trustee.

Respondents: Business or other for-profit.

Estimated Number of Respondents/Recordkeepers: 23.

Estimated Burden Hours Per Respondent/Recordkeeper: 34 minutes.

Frequency of Response: On occasion.

Estimated Total Reporting./Recordkeeping Burden: 13 hours.

OMB Number: 1545-1155.

Regulation Project Number: PS-74-89 Final.

Type of Review: Extension.

Title: Election of Reduced Research Credit.

Description: These regulations prescribe the procedure for making the election described in section 280C(c)(3) of the Internal Revenue Code. Taxpayers making this election must reduce their section 41(a) research credit, but are not required to reduce their deductions for qualified research expenses, as required in paragraphs (1) and (2) of section 280C(c).

Respondents: Business or other for-profit, Individuals or households.

Estimated Number of Respondents: 200.

Estimated Burden Hours Per Respondent: 15 minutes.

Frequency of Response: Annually.

Estimated Total Reporting Burden: 50 hours.

OMB Number: 1545-1597.

Revenue Procedure Number: Revenue Procedure 2000-12.

Type of Review: Extension.

Title: Application Procedures for a Qualified Intermediary Status Under Section 1441; Final Qualified Intermediary Withholding Agreement.

Description: Revenue Procedure 2000-12 describes application procedures for becoming a qualified intermediary (QI) and the requisite agreement that a qualified intermediary must execute with the IRS.

Respondents: Business or other for-profit.

Estimated Number of Respondents/Recordkeepers: 88,504.

Estimated Burden Hours Per Respondent/Recordkeeper:

Estimated Time for QI Account Holder: 30 minutes.

Estimated Time for a QI: 2,093 hours.

Frequency of Response: On occasion.

Estimated Total Reporting./Recordkeeping Burden: 301,018 hours.

OMB Number: 1545-1616.

Regulation Project Number: REG-115393-98 Final.

Type of Review: Extension.

Title: Roth IRAs.

Description: The regulations provide guidance on establishing Roth IRAs, contributions to Roth IRAs, converting amounts to Roth IRAs, recharacterizing IRA contributions, Roth IRA distributions, and Roth IRA reporting requirements.

Respondents: Individuals or households, Business or other for-profit, Not-for-profit institutions.

Estimated Number of Respondents/Recordkeepers: 3,150,000.

Estimated Burden Hours Per Respondent/Recordkeeper:

For designating an IRA as a Roth IRA: 1 minute.

For recharacterizing and IRA contribution: 30 minutes.

Frequency of Response: On occasion.

Estimated Total Reporting./Recordkeeping Burden: 125,000 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports, Management Officer.

[FR Doc. 01-17081 Filed 7-6-01; 8:45 am]

BILLING CODE 4830-01-P